DEPARTMENT OF COMMERCE

Bureau of the Census

Census Scientific Advisory Committee

AGENCY: Bureau of the Census, Department of Commerce.

ACTION: Notice of Renewal of the Census Scientific Advisory Committee.

SUMMARY: The Secretary of the U.S. Department of Commerce renewed and filed the charter for the Census Scientific Advisory Committee (CSAC). The purpose of the CSAC is to provide advice to the Director of the Bureau of the Census (Census Bureau) on the full range of Census Bureau programs and activities including communications, decennial, demographic, economic, field operations, geographic, information technology, and statistics. The Secretary has determined that the work of the CSAC is in the public interest and relevant to the duties of the Census Bureau. Additional information concerning the CSAC can be found by visiting the CSAC's website at: https://www.census.gov/about/cac/sac.html.

FOR FURTHER INFORMATION CONTACT: Kimberly L. Leonard, External Stakeholder Program Manager, Office of Program, Performance and Stakeholder Integration (PPSI), Room 2K137, U.S. Census Bureau, 4600 Silver Hill Road, Washington, DC 20233, by telephone on 301-763-7281 or by email at Kimberly.L.Leonard@census.gov. Individuals who use telecommunication devices for the deaf (TDD) may call the Federal Information Relay Service (FIRS) at 1-800-877-8339 between 8:00 a.m. and 8:00 p.m., Eastern Standard Time, Monday through Friday.

SUPPLEMENTARY INFORMATION:

Background

In accordance with the Federal Advisory Committee Act (FACA), the Secretary of the Department of Commerce renewed and filed the charter for the CSAC. The CSAC will operate under the provisions of FACA and will report to the Secretary of the Department of Commerce through the Director of the Census Bureau. The CSAC will advise the Director of the Census Bureau on the full range of Census Bureau programs and activities.

Objectives and Duties

1. The CSAC will address census policies, research and methodology, tests, operations, communications/messaging, and other activities to ascertain needs and best practices to improve censuses, surveys, operations, and programs.

2. The CSAC will provide formal review and feedback on internal and external working papers, reports, and other documents related to the design and implementation of census programs and surveys.

3. The CSAC will provide scientific and technical expertise from the following disciplines: demographics, economics, geography, psychology, statistics, survey methodology, social and behavorial sciences, information technology and computing, marketing and other fields of expertise, as appropriate, to address Census Bureau program needs and objectives.

The function of the CSAC will be a “Scientific Technical Program Advisory Board”.

4. The CSAC functions solely as an advisory body under the FACA.

Membership

1. The CSAC consists of up to 21 members who serve at the discretion of the Director of the Census Bureau (the Director). The Census Bureau is seeking three qualified candidates to be considered for appointment.

2. The CSAC aims to have a balanced representation among its members, considering such factors as geography, age, sex, race, ethnicity, scientific expertise, community involvement, and knowledge of census programs and/or activities.

3. The CSAC aims to include members from diverse backgrounds, including state, local and tribal governments; academia; research, national and community-based organizations; and, the private sector.

4. Members will serve as Special Government Employees (SGEs). SGEs will be subject to the ethics rules applicable to SGEs. Members will be individually advised of the capacity in which they will serve through their appointment letters.

5. SGEs and representatives will be selected from academia, public and private enterprise, and nonprofit organizations, which are further diversified by business type or industry, geography, and other factors.

6. Membership is open to persons who are not seated on other Census Bureau stakeholder entities (i.e., State Data Centers, Census Information Centers, Federal State Cooperative on Populations Estimates Program, other Census Advisory Committees, etc.). People who have already served one full-term on a Census Bureau Advisory Committee may not serve on any other Census Bureau Advisory Committee for three years from the termination of previous service. No employee of the federal government can serve as a member of the CSAC.

7. Members will serve for a three-year term. All members will be reevaluated at the conclusion of each term with the prospect of renewal, pending CSAC needs. Active attendance and participation in meetings and activities (e.g., conference calls and assignments) will be factors considered when determining term renewal or membership continuance. Members may be appointed for a second three-year term at the discretion of the Director.

8. Members will be selected on a standardized basis, in accordance with applicable U.S. Department of Commerce guidance.

Miscellaneous

1. Members of the CSAC serve without compensation but receive reimbursement for CSAC-related travel and lodging expenses.

2. The CSAC meets once or twice a year, budget permitting, but additional meetings may be held as deemed necessary by the Director or Designated Federal Officer. CSAC meetings are open to the public in accordance with FACA.

3. Members must be able to actively participate in the tasks of the CSAC, including, but not limited to, regular meeting attendance, CSAC meeting discussant responsibilities, review of materials, as well as participation in conference calls, webinars, working groups, and/or special committee activities.

4. The Department of Commerce is committed to equal opportunity in the workplace and seeks diverse CSAC membership.

Steven D. Dillingham, Director, Bureau of the Census approved the publication of this notice in the Federal Register.

Dated: May 28, 2020.
Sheleen Dumas,
Department PRA Clearance Officer, Office of the Chief Information Officer, Commerce Department.

[FR Doc. 2020-11881 Filed 6-1-20; 8:45 am]

BILLING CODE 3510-07-P